DEPARTMENT OF HOMELAND SECURITY

U.S. Customs and Border Protection

U.S. Immigration and Customs Enforcement

Announcement of Program for the Private Sector To Participate in Trade-Related Training of U.S. Customs and Border Protection and U.S. Immigration and Customs Enforcement Personnel

AGENCY: U.S. Customs and Border Protection (CBP) and U.S. Immigration and Customs Enforcement (ICE), Department of Homeland Security.

ACTION: General notice.

SUMMARY: This document announces CBP's and ICE's process to solicit, evaluate, and select interested parties in the private sector to fulfill agency needs for instruction and related instructional materials for trade-related training, pursuant to section 104 of the Trade Facilitation and Trade Enforcement Act of 2015 (TFTEA).

DATES: Private sector parties interested in providing training to CBP or ICE personnel may submit a training proposal satisfying the criteria set forth below on or after February 16, 2018.

ADDRESSES: Private sector parties interested in submitting a request to provide trade-related training should submit proposals as indicated below:

CBP proposals should be submitted to tradeseminars@cbp.dhs.gov.

ICE proposals should be submitted to IPRCenter@dhs.gov and TTUOperations@ice.dhs.gov.

FOR FURTHER INFORMATION CONTACT: Questions should be addressed to agency-designated personnel below:

CBP: Christal Oliphant (202-863-6517) for anti-dumping and countervailing duties (AD/CVD) seminars; Robert Copyak (202-863-6014) for intellectual property rights (IPR) and other seminars.

ICE: Special Agent Nadine Andrews (703-603-3955).

SUPPLEMENTARY INFORMATION:

Background

On February 24, 2016, former President Barack Obama signed into law the Trade Facilitation and Trade Enforcement Act (TFTEA), (Pub. L. 114-125, 130 Stat. 122, Feb. 24, 2016) (19 U.S.C. 4301 note). Section 104 of the TFTEA directs the Commissioner of U.S. Customs and Border Protection (CBP) and the Director of U.S. Immigration and Customs Enforcement (ICE) to establish and carry out, on a fiscal year basis, trade-related educational seminars to: (1) Improve the ability of personnel of CBP to classify and appraise imported merchandise; (2) improve the trade enforcement efforts of CBP and ICE personnel; and (3) otherwise improve the ability and effectiveness of CBP and ICE personnel to facilitate legitimate international trade. Interested parties in the private sector that meet the guidelines and criteria set forth in this notice and are selected by CBP or ICE may provide instruction and related instructional materials at these seminars pursuant to section 104.

Topics upon which training may be conducted include tariff classification, customs valuation, country of origin (including procedures for identifying merchandise bearing mislabeled country of origin markings), proper assessment of AD/CVD, evasion of duties on imports of textiles, border enforcement of IPR, enforcement of child labor laws, and other topics as appropriate and useful as concerns the trade-related duties and missions of CBP and ICE.

Trade-Related Training by Private Sector Parties

Interested parties desiring to conduct training under this program will be selected based on: (1) The availability of CBP and ICE personnel for such training; (2) the relevance of the training to the topics specified in section 104; (3) the usefulness of the proposed training as concerns the trade-related duties and missions of CBP and ICE; (4) any existing or future need to train CBP and ICE personnel on identifying and detecting incorrect or false country of origin with respect to imported merchandise; and (5) the expertise and experience of the proposed private sector instructors in the subject matter of the proposed training.

Proposals for private sector training should be directed to either CBP or ICE, as appropriate, at the above addresses, and contain the following information and materials:

(1) Name, address, telephone number, and email address of the entity proposing the training;

(2) Type of business in which the entity is engaged;

(3) Topic for the proposed training;

(4) Outline of proposed curriculum and instructional materials;

(5) Name, address, telephone number, email address, and qualifications of the proposed private sector instructor(s) (including previous experience in conducting training on the proposed topic);

(6) Name of the ports or locations at which the training is proposed to be given (which may be conducted at a location provided by the entity proposing the training), as applicable, and the intended audience in CBP and/or ICE;

(7) Proposed dates for the training;

(8) Length of the training; and

(9) Any previous history of trade-related training provided to CBP and/or ICE.

An interested private sector party who submits a proposal to train CBP and/or ICE personnel will be notified whether the proposed training meets the guidelines in this notice and have been selected to conduct the training.

As provided for in section 104(d), the Commissioner of CBP will give due consideration to carrying out educational seminars under this program to improve the ability of CBP personnel to enforce specific AD/CVD orders if such training is proposed by a petitioner involved in the action underlying that order.

TFTEA does not provide for or authorize any compensation or reimbursement of costs and expenses for private sector parties who participate in training for CBP or ICE personnel under this program. Therefore, no compensation or payment will be made to any private sector parties selected to provide such training. Private sector parties selected to participate will be required to execute a gratuitous services agreement.

The procedures set forth herein create no private rights, benefits, or privileges for any person or party.

Please note that nothing in TFTEA or this notice precludes or limits CBP or ICE from soliciting private sector parties to participate in specific training programs considered useful to the missions of the agencies or from continuing any such current training programs with private sector parties.

Dated: February 13, 2018.
Kevin K. McAleenan,
Acting Commissioner, U.S. Customs and Border Protection.
Thomas D. Homan,
Deputy Director and Senior Official Performing the Duties of the Director, U.S. Immigration and Customs Enforcement.

[FR Doc. 2018-03233 Filed 2-15-18; 8:45 am]

BILLING CODE 9111-14-P